Title 3—

The President

Proclamation 8203 of November 15, 2007

America Recycles Day, 2007

By the President of the United States of America

A Proclamation

As citizens of this great Nation, we have a responsibility to practice good environmental stewardship. On America Recycles Day, we underscore our commitment to conserving our resources by recycling.

Through curbside collections and drop-off facilities, we are turning waste materials—including plastic, glass, aluminum cans, paper, tires, batteries, and building materials—into valuable resources. Recycling is one of our Nation's most successful environmental initiatives, and my Administration is working to increase opportunities for our citizens, communities, and businesses to recycle. The Resource Conservation Challenge, created by the Environmental Protection Agency, encourages public and private partnerships to promote recycling. Through Plug-In To eCycling, we are helping reduce waste by providing consumers with information on how and where they can donate or safely recycle old electronics. Working together, we can conserve valuable resources and energy by managing materials more efficiently.

On America Recycles Day and throughout the year, I encourage all Americans to recycle appropriate materials and products. By recycling, reducing greenhouse gas emissions, and conserving energy, we can help build a healthier environment for everyone.

NOW, THEREFORE, I, GEORGE W. BUSH, President of the United States of America, by virtue of the authority vested in me by the Constitution and laws of the United States, do hereby proclaim November 15, 2007, as America Recycles Day. I call upon the people of the United States to observe this day with appropriate programs and activities.

IN WITNESS WHEREOF, I have hereunto set my hand this fifteenth day of November, in the year of our Lord two thousand seven, and of the Independence of the United States of America the two hundred and thirty-second.

[FR Doc. 07-5768

Filed 11-16-07; 9:54 am]

Billing code 3195-01-P